DEPARTMENT OF HEALTH AND HUMAN SERVICES

Centers for Disease Control and Prevention

[30Day-14-0607]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) evaluate the accuracy of the agencies estimate of the burden of the proposed collection of information, including the validity of the methodology and assumptions used; (c) enhance the quality, utility, and clarity of the information to be collected; (d) minimize the burden of the collection of information on those who are to respond, including through the use of appropriate automated, electronic, mechanical, or other technological collection techniques or other forms of information technology, e.g., permitting electronic submission of responses; and (e) assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

The National Violent Death Reporting System (NVDRS) (0920-0607, Expiration 12/31/2015)—Revision—National Center for Injury Prevention and Control (NCIPC), Centers for Disease Control and Prevention (CDC).

Background and Brief Description

Violence is an important public health problem. In the United States, suicide and homicide are the second and third leading causes of death, respectively, in the 1-34 year old age group. Unfortunately, public health agencies do not know much more about the problem than the numbers and the sex, race, and age of the victims, or information obtainable from the standard death certificate. Death certificates, however, carry no information about key facts necessary for prevention such as the relationship of the victim and suspect and the circumstances of the deaths. Furthermore, death certificates are typically available 20 months after the completion of a single calendar year. Official publications of national violent death rates (i.e., those in Morbidity and Mortality Weekly Report) rarely use data that are less than two years old.

Local and Federal criminal justice agencies such as the Federal Bureau of Investigation (FBI) provide slightly more information about homicides, but they do not routinely collect standardized data about suicides, which are in fact much more common than homicides. The FBI's Supplemental Homicide Report (SHRs) does collect basic information about the victim-suspect relationship and circumstances related to the homicide. SHRs, do not link violent deaths that are part of one incident such as homicide-suicides. It also is a voluntary system in which some 10-20 percent of police departments nationwide do not participate. The FBI's National Incident Based Reporting System (NIBRS) provides slightly more information than SHRs, but it covers less of the country than SHRs. NIBRS also only provides data regarding homicides. Also, the Bureau of Justice Statistics Reports does not use data that are less than two years old.

CDC requests OMB approval in order to revise its state-based surveillance system for violent deaths to provide coverage across all U.S. states, territories, and the District of Columbia. The surveillance system captures case record information held by medical examiners/coroners, vital statistics (i.e., death certificates), and law enforcement, including crime labs. Data is collected by each state in the system and entered into a web system administered by CDC. Information is collected from these records about the characteristics of the victims and suspects, the circumstances of the deaths, and the weapons involved. States use standardized data elements and software designed by CDC. Ultimately, this information will guide states in designing, targeting, and evaluating programs that reduce multiple forms of violence. Neither victim's families nor suspects are contacted to collect this information; it all comes from existing records and is collected by state health department staff or their subcontractors. The number of hours per death required for the public agencies working with NVDRS states to retrieve and then refile their records is estimated to be 0.5 hours per death.

The president has submitted plans to fund the expansion of the state-based surveillance system to collect information in all 50 U.S. states, the District of Columbia, and U.S. territories. This revision will allow 32 new state health departments, the health department of the District of Columbia, and 7 territorial governments to be added to the currently funded 18 state health departments, resulting in a total of 58 public health agencies, which include the 50 U.S. states, the District of Columbia, and territories to be included in the state-based surveillance system. Violent deaths include all homicides, suicides, legal interventions, deaths from undetermined causes, and unintentional firearm deaths. The average state will experience approximately 1,000 such deaths each year.

In the past, abstractors' time was included as burden as they were not compensated to abstract data from death certificates. Moving forward, we will no longer include state abstractors' time spent abstracting data in our estimates of public burden for NVDRS because state abstractors are funded by CDC to do this work. This significantly reduces the estimated public burden associated with NVDRS.

There are no costs to respondents other than their time. The total estimated annual burden hours are 29,000.

Estimated Annualized Burden Hours
Type of respondents | Form name | Number of respondents | Responses per respondent | Average burden per response (in hrs.)
Public Agencies | NVDRS Web System | 58 | 1,000 | 30/60

Leroy Richardson,
Chief, Information Collection Review Office, Office of Scientific Integrity, Office of the Associate Director for Science, Office of the Director, Centers for Disease Control and Prevention.

[FR Doc. 2014-16841 Filed 7-16-14; 8:45 am]

BILLING CODE 4163-18-P